DEPARTMENT OF VETERANS AFFAIRS

[OMB Control No. 2900-0422]

Proposed Information Collection Activity: Proposed Collection; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice solicits comments on information needed to administer contracts.

DATES: Written comments and recommendations on the proposed collection of information should be received on or before February 22, 2005.

ADDRESSES: Submit written comments on the collection of information to Cathy I. Dailey, Office of Acquisition Resources Service (049A5), Department of Veterans Affairs, 810 Vermont Avenue, NW., Washington, DC 20420 or e-mail cathy.dailey@mail.va.gov. Please refer to “OMB Control No. 2900-0422” in any correspondence.

FOR FURTHER INFORMATION CONTACT: Cathy I. Dailey at (202) 273-8774.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, (OM) invites comments on: (1) Whether the proposed collection of information is necessary for the proper performance of (OM)'s functions, including whether the information will have practical utility; (2) the accuracy of (OM)'s estimate of the burden of the proposed collection of information; (3) ways to enhance the quality, utility, and clarity of the information to be collected; and (4) ways to minimize the burden of the collection of information on respondents, including through the use of automated collection techniques or the use of other forms of information technology.

Titles:

a. Department of Veterans Affairs Acquisition Regulation (VAAR) Clause 852.236-72, Performance of Work by the Contractor.

b. Department of Veterans Affairs Acquisition Regulation (VAAR) Alternate I to Clause 852.236-80, Subcontracts and Work Coordination.

c. Department of Veterans Affairs Acquisition Regulation (VAAR) Clause 852.236-82, Payments Under Fixed-Price Construction Contracts (without NAS), including Alternate I.

d. Department of Veterans Affairs Acquisition Regulation (VAAR) Clause 852.236-83, Payments Under Fixed-Price Construction Contracts (with NAS), including Alternate I.

e. Department of Veterans Affairs Acquisition Regulation (VAAR) Clause 852.236-84, Schedule of Work Progress.

f. Department of Veterans Affairs Acquisition Regulation (VAAR) Clause 852.236-88, Contract Changes, Supplements FAR Clause 52.243-4, Changes.

OMB Control Number: 2900-0422.

Type of Review: Extension of a currently approved collection.

Abstract: The information contained Department of Veterans Acquisition Regulation (VAAR) Clauses 852.236-72, Alternate I to 852.236-80, 852.236-82, 852.236-83, 852.236-84, and 852.236-88 is necessary for VA to administer construction contracts, and to carry out its responsibility to construct, maintain and repair real property for the Department.

a. VAAR Clause 852.236-72, Performance of Work by the Contractor, requires contractors awarded a construction contract containing Federal Acquisition Regulation (FAR) clause 52.236-1, to submit a statement designating the branch or branches of contract work to be performed by the contractor's own forces. The VAAR clause implements the FAR clause by requiring the contractor to provide information to the contracting officer on how the contractor intends to fulfill this contractual obligation. The contracting officer uses this information to ensure that the contractor complies with the contract requirements.

b. Alternate I to Clause 852.236-80, Work Coordination, requires construction contractors, on contracts involving complex mechanical-electrical work, to furnish coordination drawings showing the manner in which utility lines will fit into available spaces and relate to each other and to the existing building elements. The information is used by the contracting officer and VA engineer assigned to the project to resolve any problems relating to the installation of utilities on construction contract.

c. VAAR Clause 852.236-82, Payments Under Fixed-Price Construction Contracts (without NAS), requires construction contractors to submit a schedule of costs for work to be performed under the contract. If the contract includes guarantee period services, Alternate I requires contractor to submit information on the total and itemized costs of the guarantee period services and to submit a performance plan/program. The information is needed to allow the contracting officer to determine the correct amount to pay the contractor as work progresses and to properly proportion the amount paid for guarantee period services.

d. VAAR Clause 852.236-83, Payments Under Fixed-Price Construction Contracts (with NAS), requires construction contractors to submit a schedule of costs for work to be performed under the contract. If the contract includes guarantee period services, Alternate I requires contractor to submit information on the total and itemized costs of the guarantee period services and to submit a performance plan/program. The information is needed to allow the contracting officer to determine the correct amount to pay the contractor as work progresses and to properly proportion the amount paid for guarantee period services. The difference between this clause and the one above 852.236-82 is that this clause requires the contractor to use a computerized Network Analysis System (NAS) to prepare the cost estimate.

e. VAAR Clause 852.236-84, Schedule of Work Progress, requires construction contractors, on contracts that do not require the use of a NAS, to submit a progress schedule. The information is used by the contracting officer to track the contractor's progress under the contract and to determine whether or not the contractor is making satisfactory progress.

f. VAAR Clause 852.236-88, Contract Changes, Supplements FAR Clause 52.243-4, Changes. FAR Clause 52.243-4 authorizes the contracting officer to order changes to a construction contract but does not specifically require the contractor to submit cost proposals for those changes. VAAR Clause 852.236-88 requires contractors to submit cost proposal for changes ordered by the contracting officer or for changes proposed by the contractor. This information is needed to allow the contracting officer and the contractor to reach a mutually acceptable agreement on how much to pay the contractor for the proposed changes to the contract. It is also used by the contracting officer to determine whether or not to authorize the proposed changes or whether or not additional or alternate cost proposals for changes are needed.

Affected Public: Business or other for-profit; individuals and households; and not-for-profit institutions.

Estimated Annual Burden:

a. VAAR Clause 852.236-72, Performance of Work by the Contractor—36 hours.

b. VAAR Alternate I to Clause 852.236-80, Subcontracts and Work Coordination—1,190 hours.

c. VAAR Clause 852.236-82, Payments Under Fixed-Price Construction Contracts (without NAS), including Alternate I—1,397 hours.

d. VAAR Clause 852.236-83, Payments Under Fixed-Price Construction Contracts (with NAS), including Alternate I—59 hours.

e. VAAR Clause 852.236-84, Schedule of Work Progress—2,095 hours.

f. VAAR Clause 852.236-88, Contract Changes, Supplements FAR Clause 52.243-4, Changes—807 hours.

Estimated Average Burden Per Respondent:

a. VAAR Clause 852.236-72, Performance of Work by the Contractor—1 hour.

b. VAAR Alternate I to Clause 852.236-80, Subcontracts and Work Coordination—10 hours.

c. VAAR Clause 852.236-82, Payments Under Fixed-Price Construction Contracts (without NAS), including Alternate I—1 hour.

d. VAAR Clause 852.236-83, Payments Under Fixed-Price Construction Contracts (with NAS), including Alternate I—30 minutes.

e. VAAR Clause 852.236-84, Schedule of Work Progress—1 hour.

f. VAAR Clause 852.236-88, Contract Changes, Supplements FAR Clause 52.243-4, Changes—3 hours.

Frequency of Response: On occasion.

Estimated Number of Respondents:

a. VAAR Clause 852.236-72, Performance of Work by the Contractor—36.

b. VAAR Alternate I to Clause 852.236-80, Subcontracts and Work Coordination—119.

c. Department of Veterans Affairs Acquisition Regulation (VAAR) Clause 852.236-82, Payments Under Fixed-Price Construction Contracts (without NAS), including Alternate I—1,397.

d. VAAR Clause 852.236-83, Payments Under Fixed-Price Construction Contracts (with NAS), including Alternate I—119.

e. VAAR Clause 852.236-84, Schedule of Work Progress—1,397.

f. VAAR Clause 852.236-88, Contract Changes, Supplements FAR Clause 52.243-4, Changes—269.

Dated: December 10, 2004.
By direction of the Secretary.
Jacqueline Parks,
IT Specialist, Records Management Service.

[FR Doc. 04-28034 Filed 12-22-04; 8:45 am]

BILLING CODE 8320-01-P